DEPARTMENT OF LABOR

Employment and Training Administration

[TA-W-51,412]

Express Personnel Services, Portland, ME; Notice of Termination of Investigation

Pursuant to section 221 of the Trade Act of 1974, as mended, an investigation was initiated on April 3, 2003 in response to a worker petition filed by a company official on behalf of workers at Express Personnel Services, Portland, Maine.

The petitioning group of workers is covered by an active certification (TA-W-50,031 amended) which remains in effect.

Consequently, further investigation in this case would serve no purpose, and the investigation has been terminated.

Signed at Washington, DC this 10th day of April, 2003.
Linda G. Poole,
Certifying Officer, Division of Trade Adjustment Assistance.

[FR Doc. 03-10340 Filed 4-25-03; 8:45 am]

BILLING CODE 4510-30-P